DEPARTMENT OF DEFENSE

Office of the Secretary

[Transmittal Nos. 11-09]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-09 with attached transmittal and policy justification.

Dated: October 20, 2011.
Aaron Siegel,
Alternate OSD Federal Register Liaison Officer, Department of Defense.

BILLING CODE 5001-06-P

BILLING CODE 5001-06-C

Transmittal No. 11-09

Notice of Proposed Issuance of Letter of Offer Pursuant to Section 36(b)(1) of the Arms Export Control Act, as Amended

(i) Prospective Purchaser: Argentina

(ii) Total Estimated Value:

Major Defense Equipment * | $ 0 million.
Other | $166 million.
Total | $166 million.
* as defined in Section 47(6) of the Arms Export Control Act.

(iii) Description and Quantity or Quantities of Articles or Services under Consideration for Purchase: Commercial-off-the-shelf avionics upgrade of five (5) C-130H aircraft that includes minor Class IV modifications, ground handling equipment, repair and return, spare and repair parts, support equipment, publications and technical documentation, tools and test equipment, personnel training and training equipment, programmed depot maintenance, U.S. Government and contractor engineering, technical, and logistics support services, and other related elements of program support.

(iv) Military Department: Air Force (QAT)

(v) Prior Related Cases, if any: None

(vi) Sales Commission, Fee, etc., Paid, Offered, or Agreed to be Paid: None

(vii) Sensitivity of Technology Contained in the Defense Article or Defense Services Proposed to be Sold: None

(viii) Date Report Delivered to Congress: 18 October 2011

Policy Justification

Argentina—C-130H Avionics Upgrade

The Government of Argentina has requested a possible purchase of commercial-off-the-shelf avionics upgrade of five (5) C-130H aircraft that includes minor Class IV modifications, ground handling equipment, repair and return, spare and repair parts, support equipment, publications and technical documentation, tools and test equipment, personnel training and training equipment, programmed depot maintenance, U.S. Government and contractor engineering, technical, and logistics support services, and other related elements of program support. The estimated cost is $166 million.

The proposed sale will contribute to the foreign policy and national security of the United States by improving the security of a major non- NATO ally.

The proposed sale will improve Argentina's capability to meet current and future needs for its existing C-130 fleet. Argentina uses its C-130 in humanitarian and Antarctic missions. Argentina, which already has C-130s in its inventory, will have no difficulty absorbing the upgraded systems into its armed forces. The proposed sale will enhance U.S and Argentine Air Force relations.

The proposed sale of this equipment will not alter the basic military balance in the region.

The prime contractors for this sale are not known at this time. There are no known offset agreements proposed in connection with this potential sale.

Implementation of this proposed sale will require the temporary assignment of approximately two (2) U.S. Government and 48 contractor representatives to Argentina during the duration of the program.

There will be no adverse impact on U.S. defense readiness as a result of this proposed sale.

[FR Doc. 2011-27550 Filed 10-24-11; 8:45 am]

BILLING CODE 5001-06-P